DEPARTMENT OF TRANSPORTATION

Federal Aviation Administration

14 CFR Part 97

[Docket No. 30543 Amdt. No. 3212]

Standard Instrument Approach Procedures, Weather Takeoff Minimums; Miscellaneous Amendments

AGENCY: Federal Aviation Administration (FAA), DOT.

ACTION: Final rule.

SUMMARY: This amendment establishes, amends, suspends, or revokes Standard Instrument Approach Procedures (SIAPs) and/or Weather Takeoff Minimums for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective April 3, 2007. The compliance date for each SIAP and/or Weather Takeoff Minimums is specified in the amendatory provisions.

The incorporation by reference of certain publications listed in the regulations is approved by the Director of the Federal Register as of April 3, 2007.

ADDRESSES: Availability of matters incorporated by reference in the amendment is as follows:

For Examination—1. FAA Rules Docket, FAA Headquarters Building, 800 Independence Avenue, SW., Washington, DC 20591;

2. The FAA Regional Office of the region in which the affected airport is located;

3. The National Flight Procedures Office, 6500 South MacArthur Blvd., Oklahoma City, OK 73169 or,

4. The National Archives and Records Administration (NARA). For information on the availability of this material at NARA, call 202-741-6030, or go to: http://www.archives.gov/federal_register/code_of_federal_regulations/ibr_locations.html.

For Purchase—Individual SIAP and Weather Takeoff Minimums copies may be obtained from:

1. FAA Public Inquiry Center (APA-200), FAA Headquarters Building, 800 Independence Avenue, SW., Washington, DC 20591; or

2. The FAA Regional Office of the region in which the affected airport is located.

By Subscription—Copies of all SIAPs and Weather Takeoff Minimums mailed once every 2 weeks, are for sale by the Superintendent of Documents, U.S. Government Printing Office, Washington, DC 20402.

FOR FURTHER INFORMATION CONTACT: Donald P. Pate, Flight Procedure Standards Branch (AFS-420), Flight Technologies and Programs Division, Flight Standards Service, Federal Aviation Administration, Mike Monroney Aeronautical Center, 6500 South MacArthur Blvd. Oklahoma City, OK. 73169 (Mail Address: P.O. Box 25082 Oklahoma City, OK. 73125) telephone: (405) 954-4164.

SUPPLEMENTARY INFORMATION: This amendment to Title 14 of the Code of Federal Regulations, Part 97 (14 CFR part 97), establishes, amends, suspends, or revokes SIAPs and/or Weather Takeoff Minimums. The complete regulatory description of each SIAP and/or Weather Takeoff Minimums is contained in official FAA form documents which are incorporated by reference in this amendment under 5 U.S.C. 552(a), 1 CFR part 51, and 14 CFR part 97.20. The applicable FAA Forms are identified as FAA Forms 8260-3, 8260-4, 8260-5 and 8260-15A. Materials incorporated by reference are available for examination or purchase as stated above.

The large number of SIAPs and/or Weather Takeoff Minimums, their complex nature, and the need for a special format make their verbatim publication in the Federal Register expensive and impractical. Further, airmen do not use the regulatory text of the SIAPs and/or Weather Takeoff Minimums but refer to their depiction on charts printed by publishers of aeronautical materials. Thus, the advantages of incorporation by reference are realized and publication of the complete description of each SIAP and/or Weather Takeoff Minimums contained in FAA form documents is unnecessary. The provisions of this amendment state the affected CFR sections, with the types and effective dates of the SIAPs and/or Weather Takeoff Minimums. This amendment also identifies the airport, its location, the procedure identification and the amendment number.

The Rule

This amendment to 14 CFR part 97 is effective upon publication of each separate SIAP and/or Weather Takeoff Minimums as contained in the transmittal. Some SIAP and/or Weather Takeoff Minimums amendments may have been previously issued by the FAA in a Flight Data Center (FDC) Notice to Airmen (NOTAM) as an emergency action of immediate flight safety relating directly to published aeronautical charts. The circumstances which created the need for some SIAP, and/or Weather Takeoff Minimums amendments may require making them effective in less than 30 days. For the remaining SIAPs and/or Weather Takeoff Minimums, an effective date at least 30 days after publication is provided.

Further, the SIAPs and/or Weather Takeoff Minimums contained in this amendment are based on the criteria contained in the U.S. Standard for Terminal Instrument Procedures (TERPS). In developing these SIAPs and/or Weather Takeoff Minimums, the TERPS criteria were applied to the conditions existing or anticipated at the affected airports. Because of the close and immediate relationship between these SIAPs and/or Weather Takeoff Minimums and safety in air commerce, I find that notice and public procedure before adopting these SIAPs and/or Weather Takeoff Minimums are impracticable and contrary to the public interest and, where applicable, that good cause exists for making some SIAPs and/or Weather Takeoff Minimums effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, and Navigation (Air).

Issued in Washington, DC on March 23, 2007.
James J. Ballough,
Director, Flight Standards Service.

Adoption of the Amendment

Accordingly, pursuant to the authority delegated to me, under Title 14, Code of Federal Regulations, Part 97 (14 CFR part 97) is amended by establishing, amending, suspending, or revoking Standard Instrument Approach Procedures and Weather Takeoff Minimums effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 10 May 2007

Bessemer, AL, Bessemer, ILS OR LOC RWY 5, Amdt 1

Bessemer, AL, Bessemer, RNAV (GPS) RWY 5, Orig

Bessemer, AL, Bessemer, GPS RWY 5, Orig, CANCELLED

Bessemer, AL, Bessemer, Takeoff Minimums and Obstacle DP, Orig

Huntsville, AL, Madison County Executive, ILS OR LOC/DME RWY 18, Orig

Fort Yukon, AK, Fort Yukon, RNAV (GPS) RWY 4, Orig

Fort Yukon, AK, Fort Yukon, RNAV (GPS) RWY 22, Orig

Fort Yukon, AK, Fort Yukon, GPS RWY 3, Orig, CANCELLED

Fort Yukon, AK, Fort Yukon, GPS RWY 21, Orig, CANCELLED

Fort Yukon, AK, Fort Yukon, VOR/DME OR TACAN-A, Orig

Fort Yukon, AK, Fort Yukon, VOR/DME OR TACAN RWY 3, Amdt 1C, CANCELLED

Fort Yukon, AK, Fort Yukon, VOR/DME OR TACAN RWY 22, Amdt 2

Fort Yukon, AK, Fort Yukon, VOR RWY 3, Amdt 4B, CANCELLED

Fort Yukon, AK, Fort Yukon, VOR RWY 21, Amdt 4A, CANCELLED

Fort Yukon, AK, Fort Yukon, Takeoff Minimums and Obstacle DP, Amdt 1

Hemet, CA, Hemet-Ryan, NDB-A, Amdt 1A, CANCELLED

Marysville, CA, Yuba County, VOR RWY 32, Amdt 10D, CANCELLED

Colorado Springs, CO, City of Colorado Springs Muni, RNAV (GPS) RWY 17R, Amdt 1A

Middletown, DE, Summit, RNAV (GPS) RWY 17, Amdt 1

Middletown, DE, Summit, RNAV (GPS) RWY 35, Orig

Middletown, DE, Summit, GPS RWY 35, ORIG-A, CANCELLED

Jacksonville, FL, Jacksonville Intl, VOR/DME RWY 31, Amdt 1

Jacksonville, FL, Jacksonville Intl, Takeoff Minimums and Textual DP, Orig

Miami, FL, Miami Intl, RNAV (GPS) RWY 8L, Amdt 1

Miami, FL, Miami Intl, RNAV (GPS) RWY 26R, Amdt 1

West Palm Beach, FL, Palm Beach Intl, RNAV (GPS) RWY 31, Amdt 1

Atlanta, GA, Hartsfield-Jackson Atlanta Intl, ILS OR LOC RWY 10, Amdt 1, ILS RWY 10 (CAT II), ILS RWY 10 (CAT III)

Atlanta, GA, Hartsfield-Jackson Atlanta Intl, ILS OR LOC RWY 28, Amdt 1, ILS RWY 28 (CAT II)

Atlanta, GA, Hartsfield-Jackson Atlanta Intl, ILS PRM RWY 10, Amdt 1, ILS PRM RWY 10 (CAT II), ILS PRM RWY 10 (CAT III) (SIMULTANEOUS CLOSE PARALLEL)

Atlanta, GA, Hartsfield-Jackson Atlanta Intl, ILS PRM RWY 28, Amdt 1, ILS PRM RWY 28 (CAT II) (SIMULTANEOUS CLOSE PARALLEL)

Atlanta, GA, Hartsfield-Jackson Atlanta Intl, RNAV (GPS) Y RWY 9L, Amdt 2

Atlanta, GA, Hartsfield-Jackson Atlanta Intl, RNAV (GPS) Y RWY 8L, Amdt 2

Atlanta, GA, Hartsfield-Jackson Atlanta Intl, RNAV (GPS) Y RWY 8R, Amdt 2

Atlanta, GA, Hartsfield-Jackson Atlanta Intl, RNAV (GPS) Y RWY 9R, Amdt 2

Atlanta, GA, Hartsfield-Jackson Atlanta Intl, RNAV (GPS) Y RWY 10, Amdt 1

Atlanta, GA, Hartsfield-Jackson Atlanta Intl, RNAV (GPS) Y RWY 26L, Amdt 2

Atlanta, GA, Hartsfield-Jackson Atlanta Intl, RNAV (GPS) Y RWY 26R, Amdt 2

Atlanta, GA, Hartsfield-Jackson Atlanta Intl, RNAV (GPS) Y RWY 27L, Amdt 2

Atlanta, GA, Hartsfield-Jackson Atlanta Intl, RNAV (GPS) Y RWY 27R, Amdt 2

Atlanta, GA, Hartsfield-Jackson Atlanta Intl, RNAV (GPS) Y RWY 28, Amdt 1

Atlanta, GA, Hartsfield-Jackson Atlanta Intl, RNAV (RNP) Z RWY 8L, Orig

Atlanta, GA, Hartsfield-Jackson Atlanta Intl, RNAV (RNP) Z RWY 8R, Orig

Atlanta, GA, Hartsfield-Jackson Atlanta Intl, RNAV (RNP) Z RWY 9L, Orig

Atlanta, GA, Hartsfield-Jackson Atlanta Intl, RNAV (RNP) Z RWY 9R, Orig

Atlanta, GA, Hartsfield-Jackson Atlanta Intl, RNAV (RNP) Z RWY 10, Orig

Atlanta, GA, Hartsfield-Jackson Atlanta Intl, RNAV (RNP) Z RWY 26L, Orig

Atlanta, GA, Hartsfield-Jackson Atlanta Intl, RNAV (RNP) Z RWY 26R, Orig

Atlanta, GA, Hartsfield-Jackson Atlanta Intl, RNAV (RNP) Z RWY 27L, Orig

Atlanta, GA, Hartsfield-Jackson Atlanta Intl, RNAV (RNP) Z RWY 27R, Orig

Atlanta, GA, Hartsfield-Jackson Atlanta Intl, RNAV (RNP) Z RWY 28, Orig Brunswick, GA, Brunswick Golden Isles, ILS OR LOC RWY 7, Amdt 9

Freeport, IL, Albertus, RNAV (GPS) RWY 24, Orig

Freeport, IL, Albertus, VOR RWY 24, Amdt 7

Freeport, IL, Albertus, Takeoff Minimums and Textual DP, Orig

Seymour, IN, Freeman Muni, RNAV (GPS) RWY 14, Orig

Seymour, IN, Freeman Muni, RNAV (GPS) RWY 23, Amdt 1

Seymour, IN, Freeman Muni, RNAV (GPS) RWY 32, Orig

Seymour, IN, Freeman Muni, RNAV (GPS) RWY 5, Orig

Seymour, IN, Freeman Muni, NDB RWY 5, Amdt 4

Seymour, IN, Freeman Muni, LOC/NDB RWY 5, Orig

Seymour, IN, Freeman Muni, LOC RWY 5, Amdt 3, CANCELLED

Seymour, IN, Freeman Muni, Takeoff Minimums and Textual DP, Orig

Shelbyville, IN, Shelbyville Muni, RNAV (GPS) RWY 1, Amdt 1

Shelbyville, IN, Shelbyville Muni, RNAV (GPS) RWY 19, Amdt 1

Middlesboro, KY, Middlesboro-Bell County, RNAV (GPS)-A, Orig

Williamsburg, KY, Williamsburg-Whitley County, RNAV (GPS) RWY 2, Orig

Williamsburg, KY, Williamsburg-Whitley County, RNAV (GPS) RWY 20, Orig

Williamsburg, KY, Williamsburg-Whitley County, Takeoff Minimums and Textual DP, Orig

Belfast, ME, Belfast Muni, RNAV (GPS) RWY 15, Orig

Belfast, ME, Belfast Muni, RNAV (GPS) RWY 33, Orig

Belfast, ME, Belfast Muni, Takeoff Minimums and Textual DP, Amdt 2

Belfast, ME, Belfast Muni, GPS RWY 15, Amdt 1, CANCELLED

Belfast, ME, Belfast Muni, GPS RWY 33, Amdt 1, CANCELLED

Holland, MI, Tulip City, Takeoff Minimums and Textual DP, Orig

Holland, MI, Tulip City, ILS OR LOC/DME RWY 26, Amdt 1

Holland, MI, Tulip City, RNAV (GPS) RWY 26, Amdt 2

Holland, MI, Tulip City, RNAV (GPS) RWY 8, Amdt 1

Minneapolis, MN, Minneapolis-St Paul Intl/Wold-Chamberlain, Takeoff Minimums and Obstacle DP, Amdt 11

Oxford, MS, University-Oxford, RNAV (GPS) RWY 9, Orig

Oxford, MS, University-Oxford, RNAV (GPS) RWY 27, Orig

Oxford, MS, University-Oxford, GPS RWY 9, Orig, CANCELLED

Oxford, MS, University-Oxford, GPS RWY 27, Orig, CANCELLED

Albany, NY, Albany Intl, RNAV (GPS) RWY 1, Orig

Albany, NY, Albany Intl, RNAV (GPS) RWY 19, Orig

Albany, NY, Albany Intl, GPS RWY 1, Orig-B, CANCELLED

Albany, NY, Albany Intl, GPS RWY 19, Orig-B, CANCELLED

Elmira, NY, Elmira/Corning Rgnl, Takeoff Minimums and Textual DP, Amdt 8

Penn Yan, NY, Penn Yan, RNAV (GPS) RWY 1, Amdt 2

Plattsburgh, NY, Plattsburgh Intl, ILS or LOC/DME RWY 35, Orig

Mocksville, NC, Twin Lakes, RNAV (GPS) RWY 9, Orig

Mocksville, NC, Twin Lakes, NDB OR GPS RWY 9, Amdt 5, CANCELLED

Columbus, OH, Port Columbus Intl, ILS OR LOC RWY 10L, Amdt 18

Columbus, OH, Port Columbus Intl, ILS OR LOC RWY 28L, Amdt 28

Columbus, OH, Port Columbus Intl, ILS OR LOC RWY 28R, Amdt 3

Columbus, OH, Port Columbus Intl, RNAV (GPS) RWY 10L, Amdt 1

Columbus, OH, Port Columbus Intl, RNAV (GPS) RWY 28L, Amdt 1

Columbus, OH, Port Columbus Intl, RNAV (GPS) RWY 10R, Amdt 1

Columbus, OH, Port Columbus Intl, Takeoff Minimums and Obstacle DP, Amdt 6

Ottawa, OH, Putnam County, NDB RWY 27, Amdt 1B, CANCELLED

North Bend, OR, Southwest Oregon Regional, COPTER ILS OR LOC RWY 4, Orig

The Dalles, OR, Columbia Gorge Regional/The Dalles Muni, LDA/DME RWY 25, Orig

The Dalles, OR, Columbia Gorge Regional/The Dalles Muni, COPTER LDA/DME RWY 25, Orig

Greer, SC, Greenville-Spartanburg Intl-Roger Milliken, RNAV (GPS) RWY 4, Amdt 1

Greer, SC, Greenville-Spartanburg Intl-Roger Milliken, RNAV (GPS) RWY 22, Amdt 1

Rapid City, SD, Rapid City Regional, Takeoff Minimums and Obstacle DP, Amdt 6

Elizabethton, TN, Elizabethton Muni, RNAV (GPS) RWY 6, Orig

Jacksboro, TN, Campbell County, Takeoff Minimums and Obstacle DP, Amdt 2

Roanoke, VA, Roanoke Regional/Woodrum Field, ILS OR LOC RWY 33, Amdt 12

Moses Lake, WA, Grant County Intl, ILS OR LOC RWY 32R, Amdt 20

Moses Lake, WA, Grant County Intl, Takeoff Minimums and Obstacle DP, Orig

Spokane, WA, Felts Field, Takeoff Minimums and Textual DP, Amdt 4

Spokane, WA, Spokane Intl, ILS OR LOC RWY 3, Amdt 5, ILS RWY 3 (CAT II), ILS RWY 3 (CAT III)

Spokane, WA, Spokane Intl, ILS OR LOC/DME RWY 21, Amdt 21, ILS RWY 21 (CAT II), ILS RWY 21 (CAT III)

Ashland, WI, John F. Kennedy Memorial, LOC/DME RWY 2, Orig

Ashland, WI, John F. Kennedy Memorial, Takeoff Minimums and Textual DP, Orig

Eagle River, WI, Eagle River Union, LOC/DME RWY 4, Orig

Juneau, WI, Dodge County, RNAV (GPS) RWY 2, Orig

Juneau, WI, Dodge County, RNAV (GPS) RWY 8, Orig

Juneau, WI, Dodge County, RNAV (GPS) RWY 20, Orig

Juneau, WI, Dodge County, RNAV (GPS) RWY 26, Orig

Juneau, WI, Dodge County, NDB RWY 2, Orig

Juneau, WI, Dodge County, NDB RWY 20, Orig

Juneau, WI, Dodge County, LOC RWY 26, Amdt 1

Juneau, WI, Dodge County, GPS RWY 20, Orig, CANCELLED

Juneau, WI, Dodge County, NDB RWY 2, Amdt 10A, CANCELLED

Juneau, WI, Dodge County, NDB RWY 20, Amdt 8A, CANCELLED

Lone Rock, WI, Tri-County Regional, VOR/DME RNAV OR GPS RWY 27, Amdt 6, CANCELLED

[FR Doc. E7-5952 Filed 4-2-07; 8:45 am]

BILLING CODE 4910-13-P